DEPARTMENT OF AGRICULTURE

Forest Service

Information Collection; Forest Products Removal Permits and Contracts

AGENCY: Forest Service, USDA.

ACTION: Notice; request for comment.

SUMMARY: In accordance with the Paperwork Reduction Act of 1995, the Forest Service is seeking comments from all interested parties on the extension with revision of a currently approved information collection, Forest Products Free use Permit; Forest Products Removal permit and Cash Receipt; and Forest Products Contract and Cash Receipt (also referred to as Forest Products Removal Permits and Contracts).

DATES: Comments must be received in writing on or before April 27, 2015 to be assured of consideration. Comments received after that date will be considered to the extent practicable.

ADDRESSES: Comments concerning this notice should be addressed to Sharon Nygaard-Scott, Forest Management Staff, Forest Service, USDA, Mail Stop 1103, 1400 Independence Avenue SW., Washington, DC 20250.

Comments also may be submitted via facsimile to (703) 605-1575. In addition, comments may be submitted via the world wide web/Internet at: http://www.regulations.gov.

The public may inspect comments received at the Forest Service, Forest Management Staff Office, Third Floor SW., 201 14th Street SW., Washington, DC 20250 during normal business hours. Visitors are encouraged to call ahead to (202) 205-1766 to facilitate entry to the building.

FOR FURTHER INFORMATION CONTACT: Sharon Nygaard-Scott, Forest Management Staff, at (202) 205-1766, or J. Reddan, Forest Management Staff, at (202) 205-1667. Individuals who use telecommunication devices for the deaf (TDD) may call the Federal Relay Service (FRS) at 1-800-877-8339 twenty-four hours a day, every day of the year, including holidays.

SUPPLEMENTARY INFORMATION: Title: Forest Products Free Use Permit; Forest Products Removal Permit and Cash Receipt; and Forest Products Contract and Cash Receipt.

OMB Number: 0596-0085.

Expiration Date of Approval: 04/30/2015.

Type of Request: Extension with revision of a currently approved information collection.

Abstract: This information collection is being revised to accommodate requests by federally recognized Indian tribes for use of trees, portions of trees, or forest products, free of charge, from National Forest System lands for noncommercial traditional and cultural purposes under the Food, Conservation, and Energy Act of 2008 (Pub. L. 110-246, 122 Stat. 1651) section 8105 Forest Products for Traditional and Cultural Purposes [hereinafter referred to as “section 8105”], and per the Paperwork Reduction Act of 1995 (44 U.S.C. 3501 et seq.) and implementing regulations at 5 CFR part 1320. Additionally, section 8105 has been codified in 25 U.S.C. Chapter 32A Cultural and Heritage Cooperation Authority; section 3055 Forest Products for Traditional and Cultural Purposes. Pending rulemaking regarding section 8105, the Forest Service issued policy via an Interim Directive (ID) providing short-term direction for federally recognized Indian tribe requests for trees, portions of trees, or forest products for noncommercial traditional and cultural purposes. The ID has since been reissued as Forest Service ID 2409.18-2013-2.

Under 16 U.S.C. 551, individuals and businesses wishing to remove forest products from National Forest System lands must request a permit. Federally recognized Indian tribes seeking products under section 8105 authority must make a request for free use. To obtain a permit, applicants must meet the criteria at 36 CFR 223.1, 223.2, and 223.5-223.13, which authorizes free use or sale of timber or forest products. As noted above, section 8105 authority sets forth conditions under which federally recognized Indian tribes may obtain, free of charge, trees, portions of trees, or forest products for noncommercial traditional and cultural purposes. Should federally recognized Indian tribes seeking such use wish to obtain proof of possession, as may be required in some States, they could be issued a FS-2400-8 permit. Upon receiving a permit, the permittee must comply with the terms of the permit (36 CFR 261.6), which designates forest products that can be harvested and under what conditions, such as limiting harvest to a designated area or permitting harvest of only specifically designated material. The collected information will help the Forest Service and the Bureau of Land Management (for form FS-2400-1) oversee the approval and use of forest products by the public.

When applying for forest product removal permits, applicants (depending on the products requested) would provide information needed to complete one of the following:

• FS-2400-1, Forest Products Removal Permit and Cash Receipt, is used to sell timber or forest products such as, but not limited to, fuelwood, Christmas trees, or pine cones (36 CFR 223.1, 223.2). The Bureau of Land Management identifies the FS-2400-1 as BLM-5450-24 (43 U.S.C. 1201, 43 CFR 5420). This form would not be used to issue products requested by federally recognized Indian tribes under section 8105 authority.

• FS-2400-4/FS-2400-4ANF, Forest Products Contract and Cash Receipt, are used to sell timber products such as sawtimber or forest products such as, but not limited to, fuelwood. These forms would not be used to issue products requested by federally recognized Indian tribes under section 8105 authority.

• FS-2400-8, Forest Products Free Use Permit, allows use of timber or forest products at no charge to the permittee (36 CFR 223.5-223.13).

This form could be used to issue products requested by federally recognized Indian tribes under section 8105 authority.

Each form listed above implements different regulations and has different provisions for compliance, but collects similar information from the applicant for related purposes.

The Forest Service and the Bureau of Land Management will use the information collected on form FS-2400-1 to ensure identification of permittees in the field by agency personnel. The Forest Service will use the information collected on forms FS-2400-4/FS-2400-4ANF and/or FS-2400-8 to:

• Ensure that permittees obtaining free use of timber or forest products qualify for the free-use program.

• Ensure that permittees obtaining free use of timber or forest products, under 36 CFR 223.8, do not receive product value in excess of that allowed by regulations. Note, however, that under section 8105 authority, there is no stated maximum free use limitation.

• Ensure that applicants purchasing timber harvest or forest products permits non-competitively do not exceed the authorized limit in a fiscal year (16 U.S.C. 472(a)).

• Ensure identification of permittees, in the field, by Forest Service personnel.

Applicants may apply for more than one forest products permit or contract per year. For example, an applicant may obtain a free use permit for a timber product such as, but not limited to, pine cones (FS-2400-8) and still purchase fuelwood (FS-2400-1, and/or FS-2400-4/2400-4ANF). Additionally, there is no limitation to the number of requests that each federally recognized Indian tribe may make under section 8105 authority.

Individuals and small business representatives usually request and apply for permits and contracts in person at the office issuing the permit. How requests are made by federally recognized Indian tribes is not specified under section 8105 authority or in the interim direction found in Forest Service ID 2409.18-2013-2. However, pending rulemaking proposes the requests be made in writing.

Applicants provide the following information, as applicable:

• Name,

• Address, and

• Personal identification number such as tax identification number, social security number, driver's license number, or other unique number identifying the applicant.

Agency personnel enter the information into a computerized database to use for subsequent requests by applicants for a forest product permit or contract. The information is printed on paper, which the applicant signs and dates. Agency personnel discuss the terms and conditions of the permit or contract with the applicant.

The data gathered is not available from other sources. The collected data is used to ensure:

• Applicants for free use permits meet the criteria for free use of timber or forest products authorized by regulations at 36 CFR 223.5-223.13, and/or section 8105 of the 2008 Farm Bill;

• Applicants seeking to purchase and remove timber or forest products from Agency lands meet the criteria under which sale of timber or forest products is authorized by regulations at 36 CFR 223.80; and

• Permittees comply with regulations and terms of the permit at 36 CFR 261.6.

The collection of this information is necessary to ensure that applicants meet the requirements of the forest products program; those obtaining free-use permits for forest products qualify for the program; applicants purchasing non-competitive permits to harvest forest products do not exceed authorized limits; and that Federal Agency employees can identify permittees when in the field.

Estimate of Annual Burden: 5 minutes.

Type of Respondents: Individuals, small businesses, and, for requests made under section 8105 of the Food, Conservation, and Energy Act of 2008 (Public Law 110-246, 122 Stat. 1651), federally recognized Indian tribes.

Estimated Annual Number of Respondents: 212,634.

Estimated Annual Number of Responses per Respondent: 2.

Estimated Total Annual Burden on Respondents: 35,439.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: February 13, 2015.
Leslie A.C. Weldon,
Deputy Chief, National Forest System.

[FR Doc. 2015-03649 Filed 2-23-15; 8:45 am]

BILLING CODE 3411-15-P